DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on December 1, 2018, through December 31, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Injury Compensation Programs, Healthcare Systems Bureau, 5600 Fishers Lane, 08N146B, Rockville, MD 20857. The Court's caption (Petitioner's Name v. Secretary of Health and Human Services) and the docket number assigned to the petition should be used as the caption for the written submission. Chapter 35 of title 44, United States Code, related to paperwork reduction, does not apply to information required for purposes of carrying out the Program.

Dated: January 31, 2019.
George Sigounas,
Administrator.

List of Petitions Filed

1. Irma Linton

Yonkers, New York

Court of Federal Claims No: 18-1849V

2. Ronny Echeverri

Santa Clara, California

Court of Federal Claims No: 18-1850V

3. Roland S. Einer

Cody, Wyoming

Court of Federal Claims No: 18-1857V

4. Daniel E. Mielke

Stevens Point, Wisconsin

Court of Federal Claims No: 18-1858V

5. Bonnie Calvin on behalf of Richard Calvin, Deceased

Marco Island, Florida

Court of Federal Claims No: 18-1859V

6. Eric Williams

Orting, Washington

Court of Federal Claims No: 18-1860V

7. Charles Bakeman

Sun Lakes, Arizona

Court of Federal Claims No: 18-1861V

8. September Creager

Lockbourne, Ohio

Court of Federal Claims No: 18-1863V

9. Janet Halstenson

Sioux Falls, South Dakota

Court of Federal Claims No: 18-1865V

10. Shannyn Barnard

Marietta, Georgia

Court of Federal Claims No: 18-1866V

11. Amy Jordan

Santa Fe, New Mexico

Court of Federal Claims No: 18-1867V

12. Colleen Althaus

Chesterfield, Missouri

Court of Federal Claims No: 18-1868V

13. Richard Adam Downing

Rocklin, California

Court of Federal Claims No: 18-1869V

14. Michelle Craycraft

Washington, District of Columbia

Court of Federal Claims No: 18-1870V

15. Dianna Krueger

Minneapolis, Minnesota

Court of Federal Claims No: 18-1871V

16. Kelvin Hernandez Gonzalez

Barceloneta, Puerto Rico

Court of Federal Claims No: 18-1872V

17. Timothy Goddard

Portsmouth, New Hampshire

Court of Federal Claims No: 18-1873V

18. Doreen Wyffels

Alexandria, Minnesota

Court of Federal Claims No: 18-1874V

19. Carole Weeks

Verona, Virginia

Court of Federal Claims No: 18-1876V

20. Michelle Danielson

Washington, District of Columbia

Court of Federal Claims No: 18-1878V

21. Aubrey M. Illig

Overland Park, Kansas

Court of Federal Claims No: 18-1879V

22. Jeffrey Cooper

Boston, Massachusetts

Court of Federal Claims No: 18-1885V

23. Tiffany Helton

Summersville, Missouri

Court of Federal Claims No: 18-1886V

24. Juan Manuel Silva

Los Angeles, California

Court of Federal Claims No: 18-1887V

25. Janice Dobbs

Pinehurst, North Carolina

Court of Federal Claims No: 18-1888V

26. Doretha Deveer

Chiefland, Florida

Court of Federal Claims No: 18-1889V

27. Shannon Fennell

Washington, District of Columbia

Court of Federal Claims No: 18-1890V

28. Pamela Fox

Somerset, New Jersey

Court of Federal Claims No: 18-1891V

29. Laura Lind

Pittsburgh, Pennsylvania

Court of Federal Claims No: 18-1892V

30. Darrick Stopczynski

Muskegon Heights, Michigan

Court of Federal Claims No: 18-1893V

31. Sharon Hughes

Calera, Alabama

Court of Federal Claims No: 18-1895V

32. Courtney Graham

Rochester Hills, Michigan

Court of Federal Claims No: 18-1896V

33. David Gerard Harvey, II

Fayetteville, North Carolina

Court of Federal Claims No: 18-1897V

34. Sharon Colaianni-Abbott on behalf of Wray Paul Abbott, Deceased

Boston, Massachusetts

Court of Federal Claims No: 18-1898V

35. Cindy Barrientos

Round Rock, Texas

Court of Federal Claims No: 18-1899V

36. Vickie Oates

Germantown, Tennessee

Court of Federal Claims No: 18-1901V

37. Sherri Diaz

Ashburn, Virginia

Court of Federal Claims No: 18-1903V

38. Karen Kyger

Boise, Idaho

Court of Federal Claims No: 18-1905V

39. Lynn Meyer

Middle Granville, New York

Court of Federal Claims No: 18-1906V

40. Juney Stokley

Elizabeth City, North Carolina

Court of Federal Claims No: 18-1911V

41. Donald Perry

Fort Worth, Texas

Court of Federal Claims No: 18-1912V

42. Tina M. Dilbeck

Niagara Falls, New York

Court of Federal Claims No: 18-1913V

43. Sally Achramowicz

Fort Wayne, Indiana

Court of Federal Claims No: 18-1914V

44. Anita Anderson

Harrisburg, Arkansas

Court of Federal Claims No: 18-1915V

45. Eric Barr

Birmingham, Alabama

Court of Federal Claims No: 18-1916V

46. Jennifer Ward

Lincoln, Nebraska

Court of Federal Claims No: 18-1918V

47. Patricia Botic

Milwaukee, Wisconsin

Court of Federal Claims No: 18-1919V

48. Christine Hammans on behalf of I. H.

Omaha, Nebraska

Court of Federal Claims No: 18-1920V

49. Marilyn Lavender

Myrtle Beach, South Carolina

Court of Federal Claims No: 18-1921V

50. Jonathan Harris

Shreveport, Louisiana

Court of Federal Claims No: 18-1924V

51. Kathlyn Haynes

Fairfax, Virginia

Court of Federal Claims No: 18-1925V

52. Jannica Paraschiv

Kirkland, Washington

Court of Federal Claims No: 18-1926V

53. Donna Jennings

King of Prussia, Pennsylvania

Court of Federal Claims No: 18-1927V

54. Jill Carpenter

Newburgh, Indiana

Court of Federal Claims No: 18-1928V

55. Yatri Kadakia

Washington, District of Columbia

Court of Federal Claims No: 18-1930V

56. Efrem J. Johnson

Milwaukee, Wisconsin

Court of Federal Claims No: 18-1932V

57. Robert Galante

Malden, Massachusetts

Court of Federal Claims No: 18-1933V

58. Sarah Zins and Leib Zins on behalf of Jonathan Zins

Monsey, New York

Court of Federal Claims No: 18-1934V

59. Susan Hoefling on behalf of Ashley Schoop, Deceased

Annapolis, Maryland

Court of Federal Claims No: 18-1935V

60. Kirsten Somarelli

Honesdale, Pennsylvania

Court of Federal Claims No: 18-1937V

61. Dennis Andric and Bonnie Andric on behalf of E. A.

Sicklerville, New Jersey

Court of Federal Claims No: 18-1938V

62. Christine Gualtier

Sacramento, California

Court of Federal Claims No: 18-1939V

63. Sharon Mueller

Washington, District of Columbia

Court of Federal Claims No: 18-1941V

64. Stacy Clayton

Henderson, Tennessee

Court of Federal Claims No: 18-1944V

65. Diana Karanxha

Waterbury, Connecticut

Court of Federal Claims No: 18-1945V

66. Cynthia Jenkins

Hamilton, New Jersey

Court of Federal Claims No: 18-1946V

67. Heather Thomas

Elgin, Illinois

Court of Federal Claims No: 18-1948V

68. Winston Chun

Reno, Nevada

Court of Federal Claims No: 18-1950V

69. Barbara Rowell

Seminary, Mississippi

Court of Federal Claims No: 18-1951V

70. April Warner on behalf of Andrew Warner, Deceased

Pottsville, Pennsylvania

Court of Federal Claims No: 18-1952V

71. David D. Greer

Plattsmouth, Nebraska

Court of Federal Claims No: 18-1953V

72. Diana Castaneda on behalf of S. E. C.

New York, New York

Court of Federal Claims No: 18-1958V

73. Cynthia Jennette

Kinston, North Carolina

Court of Federal Claims No: 18-1959V

74. Katherine P. Carter

Albany, Georgia

Court of Federal Claims No: 18-1966V

75. Sarah Anne Piscitello

Tampa, Florida

Court of Federal Claims No: 18-1970V

76. Keely Knudsen

Hamden, Connecticut

Court of Federal Claims No: 18-1971V

77. Dawne Harris

Nashville, Tennessee

Court of Federal Claims No: 18-1972V

78. Barbara Longo

Keizer, Oregon

Court of Federal Claims No: 18-1973V

79. Stella Marine

Baltimore, Maryland

Court of Federal Claims No: 18-1974V

80. Michael Mezzacapo

Washington, District of Columbia

Court of Federal Claims No: 18-1977V

81. Gloria Blocker Clark

Marietta, Georgia

Court of Federal Claims No: 18-1981V

82. Lisa J. Groeneweg

Rock Valley, Iowa

Court of Federal Claims No: 18-1987V

83. Anne Marie Wilford-Graham

Middletown, New York

Court of Federal Claims No: 18-1991V

84. Douglas Rankin

Washington, District of Columbia

Court of Federal Claims No: 18-1996V

85. Gretchen Zufall

New York, New York

Court of Federal Claims No: 18-1997V

[FR Doc. 2019-01240 Filed 2-5-19; 8:45 am]

BILLING CODE 4165-15-P